DEPARTMENT OF THE INTERIOR

National Park Service

[NPS-MWR-CUVA-10100; 6065-4000-409]

Draft Trail Management Plan and Environmental Impact Statement for Cuyahoga Valley National Park, Ohio

AGENCY: National Park Service, Interior.

ACTION: Notice of Availability.

SUMMARY: The National Park Service (NPS) announces the availability of a draft Trail Management Plan and Environmental Impact Statement for Cuyahoga Valley National Park, Ohio.

DATES: The draft Trail Management Plan and Environmental Impact Statement will be available for public comment for a 60-day public review period. Comments must be received no later than 60 days after the Environmental Protection Agency publishes its notice of availability in the Federal Register. Public meetings will be held; specific dates, times, and locations will be announced in the local media, on the Internet, and will also be available by contacting the park at 440-546-5905.

ADDRESSES: A copy of the Plan/EIS is available on the Internet on the NPS Planning, Environment, and Public Comment Web site at: http://www.parkplanning.nps.gov/cuyahogatrailplan. Copies may also be obtained by making a request in writing or picked up in person at Cuyahoga Valley National Park, 15610 Vaughn Road, Brecksville, Ohio 44141.

FOR FURTHER INFORMATION CONTACT: Contact Superintendent Austin at the address above or by telephone at 440-546-5905.

SUPPLEMENTARY INFORMATION: We, the NPS, have prepared a comprehensive updated Trail Management Plan and Environmental Impact Statement. The Plan/EIS will serve as a blueprint to guide the expansion, elimination, restoration, management, and use of the trail system and its associated trail facilities over the next 15 years. Since 1985, when our first Trail Plan was established, many changes have occurred that require an update to the Plan. These include the Park's growth in visitation and programs, some park trails requiring increased operational investment due to their location and use patterns, expansion of regional trail networks, and change in outdoor recreation trends.

Several alternative actions, including the No Action, were considered in the development of the draft EIS. These are summarized briefly here. Other alternatives were explored but dismissed; these are discussed in the draft EIS.

Alternative 1—No Action: The trails, authorized uses, and facilities addressed in this plan would remain as they currently exist. We would continue trail management under current park policies, protocols and monitoring. A continuation of trail projects would occur on an individual basis and as opportunities arise with separate planning and compliance.

Actions Common to All Action Alternatives—All action alternatives share common actions to assist in meeting the goals of the Plan/EIS. These include the restoration of the existing trail system, adoption of Sustainable Trail Guidelines, and the consideration of trail facilities. Trail facilities evaluated include a water trail system with non-motorized boat launch sites along the Cuyahoga River, trailside and riverside campsites, and improved parking facilities.

Alternative 2A—Re-Use: Alternative 2A emphasizes the importance of enhancing the existing trail system's sustainability for future generations with limited expansion and reuse of existing corridors.

Alternative 2B—Re-Use with Mountain Bike Use: Alternative 2B is the same as Alternative 2A with the addition of an authorization for a linear mountain bike trail on existing trails within the Park and on lands owned and managed by our partners.

Alternative 3A—Recreation Focus: “Trail Hubs” will serve as interchangeable areas for recreational trail use that provides the full variety of trail experiences the Park has to offer. Trail hubs would be placed at existing visitor facilities throughout the park to establish activity centers for trail use and other activities.

Alternative 3B—Recreation Focus with Mountain Bike Use: Alternative 3B is the same as Alternative 3A with the addition of new mountain bike trails consisting of two zones of short loop routes.

Alternative 4A—Destination Focus: Park features and attractions are the focus of this Alternative with the trail system serving as the main visitor access to these features. Expansion of the primitive hiking experience occurs to the greatest extent in Alternative 4A.

Alternative 4B—Destination Focus with Mountain Bike Trails: Alternative 4B is the same as Alternative 4B with the addition of new mountain bike trails. The mountain bike trail system consists of a long point-to-point trail with shorter loop trails to provide a variety of lengths and experiences to the mountain bike user.

Alternative 5—Re-Use, Recreation & Destination: Preferred Alternative. Alternative 5 combines trail elements from all of the Alternatives and proposed trail facilities that will best fit the park. Alternative 5 proposes the following trail elements: (1) Implementing 45 additional miles of trail, including a new 10-mile mountain bike trail; (2) incorporating actions common to all action alternatives including restoration of trails, Sustainable Trail Guidelines, and expansion and improvement of trail facilities; (3) improvement of 10 existing parking areas and the introduction of 4 new parking areas; and (4) establishment of expanded community partnerships to establish 30+ miles of bike lanes on public roads within CVNP.

We welcome comments on the Plan/EIS either by mail or through the NPS Planning, Environment, and Public Comment Web site at: http://www.parkplanning.nps.gov/cuyahogatrailplan. Before including your address, telephone number, email address, or other personal identifying information in your comments, you should be aware that your entire comment (including your personal identifying information) may be made publicly available at any time. While you can ask us in your comments to withhold your personal identifying information from public review, we cannot guarantee that we will be able to do so. We will make all submissions from organizations or businesses, and from individuals identifying themselves as representatives or officials of organizations or businesses, available for public inspection in their entirety.

Dated: May 14, 2012.
Michael T. Reynolds,
Regional Director, Midwest Region.

[FR Doc. 2012-15208 Filed 6-20-12; 8:45 am]

BILLING CODE 4310-MA-P